DEPARTMENT OF AGRICULTURE

Forest Service

Allegheny Resource Advisory Committee Meeting

AGENCY: Forest Service, USDA.

ACTION: Notice of meeting.

SUMMARY: The Allegheny Resource Advisory Committee (RAC) will meet in Warren, Pennsylvania. The committee is authorized under the Secure Rural Schools and Community Self-Determination Act (the Act) and operates in compliance with the Federal Advisory Committee Act. The purpose of the committee is to improve collaborative relationships and to provide advice and recommendations to the Forest Service concerning projects and funding consistent with Title II of the Act. Additional RAC information can be found at the following Web site: http://www.fs.usda.gov/main/allegheny/workingtogether/advisorycommittees.

DATES: The meeting will be held Thursday, December 8, 2016, at 10:00 a.m. EST.

All RAC meetings are subject to cancellation. For status of meeting prior to attendance, please contact the person listed under FOR FURTHER INFORMATION CONTACT.

ADDRESSES: The meeting will be held at the Allegheny National Forest Supervisor's Office, 4 Farm Colony Drive, Warren, Pennsylvania.

Written comments may be submitted as described under SUPPLEMENTARY INFORMATION. All comments, including names and addresses when provided, are placed in the record and are available for public inspection and copying. The public may inspect comments received at the Allegheny National Forest Supervisor's Office. Please call ahead at 814-728-6100 to facilitate entry into the building.

FOR FURTHER INFORMATION CONTACT: Ruth Sutton, RAC Coordinator by phone at 814-728-6100, or via email at rsutton@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommodation for access to the facility or proceedings by contacting the person listed above.

SUPPLEMENTARY INFORMATION: The purpose of the meeting is to review and approve project submissions.

The meeting is open to the public. The agenda will include time for people to make oral statements of three minutes or less. Individuals wishing to make an oral statement should request in writing by November 30, 2016, to be scheduled on the agenda. Anyone who would like to bring related matters to the attention of the committee may file written statements with the committee staff before or after the meeting. Written comments and requests for time to make oral comments must be sent to Ruth Sutton, RAC Coordinator, Allegheny National Forest Supervisor's Office, 4 Farm Colony Drive, Warren, Pennsylvania 16365; by email to rsutton@fs.fed.us, or via facsimile to 814-726-1465.

Meeting Accommodations: If you are a person requiring reasonable accommodation, please make requests in advance for sign language interpreting, assistive listening devices or other reasonable accommodation for access to the facility or proceedings by contacting the person listed in the section titled For Further Information Contact. All reasonable accommodation requests are managed on a case-by-case basis.

Dated: October 24, 2016.
Sherry A. Tune,
Forest Supervisor.

[FR Doc. 2016-26165 Filed 10-28-16; 8:45 am]

BILLING CODE 3411-15-P